DEPARTMENT OF HEALTH AND HUMAN SERVICES

Announcement of Requirements and Registration for “Ensuring Safe Transitions From Hospital to Home”

Authority: 15 U.S.C. 3719.

AGENCY: Office of the National Coordinator for Health Information Technology, HHS.

ACTION: Notice.

SUMMARY: The “Ensuring Safe Transitions from Hospital to Home” challenge tasks developers with creating technology solutions that empower discharged patients to take charge of their health care during transitions of places of care. Innovative applications will help patients and their caregivers insure that they have all the information and materials, such as drug prescriptions, medical equipment, follow-up appointments, and emergency contacts, that they need to move safely to their next care setting.

The statutory authority for this challenge competition is Section 105 of the America COMPETES Reauthorization Act of 2010 (Pub. L. 111-358).

DATES: Effective on September 12, 2011.

FOR FURTHER INFORMATION CONTACT:

Adam Wong, 202-720-2866.

Wil Yu, 202-690-5920.

SUPPLEMENTARY INFORMATION: Subject of Challenge Competition: ONC, in collaboration with the Partnership for Patients, seeks to stimulate innovative approaches to care transitions and improving patient safety. Nearly one in five patients discharged from a hospital will be readmitted within 30 days. A large proportion of readmissions can be prevented by improving communications and coordinating care before and after discharge. The Centers for Medicare and Medicaid Services (CMS) provides a discharge checklist to help patients and their caregivers prepare to leave a hospital, nursing home, or other care setting. Research has shown that empowering patients and caregivers with information and tools to manage the next steps in their care more confidently is a very effective way to reduce errors, decrease complications, and prevent a return visit to the hospital. ONC is challenging software developers to improve care transitions and build upon these tools by generating an intuitive and easy-to-use application to empower patients and caregivers that leverages NwHIN standards and services.

Eligibility Rules for Participating in the Competition:

To be eligible to win a prize under this challenge, an individual or entity:

(1) Shall have registered to participate in the competition under the rules promulgated by Office of the National Coordinator for Health Information Technology;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

An individual or entity shall not be deemed ineligible because the individual or entity used Federal facilities or consulted with Federal employees during a competition if the facilities and employees are made available to all individuals and entities participating in the competition on an equitable basis.

Registered participants shall be required to agree to assume any and all risks and waive claims against the Federal Government and its related entities, except in the case of willful misconduct, for any injury, death, damage, or loss of property, revenue, or profits, whether direct, indirect, or consequential, arising from their participation in a competition, whether the injury, death, damage, or loss arises through negligence or otherwise.

Participants shall be required to obtain liability insurance or demonstrate financial responsibility, in amounts determined by the head of the Office of the National Coordinator for Health Information Technology, for claims by—

(1) A third party for death, bodily injury, or property damage, or loss resulting from an activity carried out in connection with participation in a competition, with the Federal Government named as an additional insured under the registered participant's insurance policy and registered participants agreeing to indemnify the Federal Government against third party claims for damages arising from or related to competition activities; and

(2) the Federal Government for damage or loss to Government property resulting from such an activity.

Participants must be teams of at least two people.

All participants are required to provide written consent to the rules upon or before submitting an entry.

Dates:

• Submission Period Begins: 12:01 a.m., E.D.T., September 12, 2011.

• Submission Period Ends: 11:59 p.m., E.D.T., November 16, 2011.

Registration Process for Participants:

To register for this challenge participants should:

• Access the http://www.challenge.gov Web site and search for the “Ensuring Safe Transitions from Hospital to Home”.

• Access the ONC Investing in Innovation (i2) Challenge Web site at:

○ http://www.health2challenge.org/category/onc/

○ A registration link for the challenge can be found on the landing page under the challenge description.

Amount of the Prize:

• First Prize: $25,000.

• Second Prize: $10,000.

• Third Prize: $5,000.

Awards may be subject to Federal income taxes and HHS will comply with IRS withholding and reporting requirements, where applicable.

Basis Upon Which Winner Will Be Selected:

The judging panel will make selections based upon the following criteria:

1. Innovation.

2. Usability/Design.

3. Potential for impact.

4. Data integration.

5. Use of NwHIN standards and services.

Additional Information:

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Dated: September 8, 2011.
Farzad Mostashari,
National Coordinator for Health Information Technology.

[FR Doc. 2011-23704 Filed 9-14-11; 8:45 am]

BILLING CODE 4150-45-P